DEPARTMENT OF ENERGY

Federal Energy Regulatory Commission

Combined Notice of Filings #1

Take notice that the Commission received the following electric corporate filings:

Docket Numbers: EC17-64-000.

Applicants: Orange and Rockland Utilities, Inc.

Description: Application of Orange and Rockland Utilities, Inc. for order pursuant to Section 203 of the Federal Power Act authorizing the purchase or acquisition by the company of short-term debt of its affiliate.

Filed Date: 1/19/17.

Accession Number: 20170119-5212.

Comments Due: 5 p.m. ET 2/9/17.

Take notice that the Commission received the following electric rate filings:

Docket Numbers: ER10-2835-006.

Applicants: Google Energy LLC.

Description: Notice of Change in Status by Google Energy LLC.

Filed Date: 1/19/17.

Accession Number: 20170119-5199.

Comments Due: 5 p.m. ET 2/9/17.

Docket Numbers: ER10-2961-010; ER10-2950-009; ER10-3193-010; ER11-2042-011; ER11-2041-011; ER10-2924-010; ER10-2480-009; ER10-2718-026; ER10-2719-025; ER10-2959-010; ER10-2934-009; ER13-821-011; ER14-2500-005; ER14-2498-005; ER16-2462-003.

Applicants: Edgecombe Genco, LLC, Spruance Genco, LLC, Brooklyn Navy Yard Cogeneration Partners, L.P., Seneca Energy II, LLC, Innovative Energy Systems, LLC, Kleen Energy Systems, LLC, Berkshire Power Company, LLC, Cogen Technologies Linden Venture, L.P., East Coast Power Linden Holding, L.L.C., Chambers Cogeneration Limited Partnership, Logan Generating Company, LP, Scrubgrass Generating Company, L.P., Newark Energy Center LLC, EIF Newark, LLC, Oregon Clean Energy, LLC.

Description: Notice of Non-Material Change in Status of Edgecombe Genco, LLC., et al.

Filed Date: 1/19/17.

Accession Number: 20170119-5208.

Comments Due: 5 p.m. ET 2/9/17.

Docket Numbers: ER17-820-000.

Applicants: Southwest Power Pool, Inc.

Description: § 205(d) Rate Filing: 3114R2 Resale Power Group of Iowa to be effective 1/1/2017.

Filed Date: 1/19/17.

Accession Number: 20170119-5156.

Comments Due: 5 p.m. ET 2/9/17.

Docket Numbers: ER17-821-000.

Applicants: Midcontinent Independent System Operator, Inc.

Description: § 205(d) Rate Filing: 2017-01-23_Cleco 2017 IOA—LGIA Succession Filing to be effective 12/19/2013.

Filed Date: 1/19/17.

Accession Number: 20170119-5167.

Comments Due: 5 p.m. ET 2/9/17.

Docket Numbers: ER17-822-000.

Applicants: Luz Solar Partners Ltd., III.

Description: Baseline eTariff Filing: Luz Solar Partners Ltd., III Application for Market-Based Rates to be effective 1/26/2017.

Filed Date: 1/19/17.

Accession Number: 20170119-5168.

Comments Due: 5 p.m. ET 2/9/17.

Docket Numbers: ER17-823-000.

Applicants: Luz Solar Partners Ltd., IV.

Description: Baseline eTariff Filing: Luz Solar Partners Ltd., IV Application for Market-Based Rates to be effective 1/31/2017.

Filed Date: 1/19/17.

Accession Number: 20170119-5169.

Comments Due: 5 p.m. ET 2/9/17.

Docket Numbers: ER17-824-000.

Applicants: Ironwood Windpower, LLC.

Description: § 205(d) Rate Filing: Change in Status—MBR Tariff to be effective 3/25/2017.

Filed Date: 1/23/17.

Accession Number: 20170123-5124.

Comments Due: 5 p.m. ET 2/13/17.

Docket Numbers: ER17-825-000.

Applicants: Cimarron Windpower II, LLC.

Description: § 205(d) Rate Filing: Change in Status—MBR Tariff to be effective 3/25/2017.

Filed Date: 1/23/17.

Accession Number: 20170123-5125.

Comments Due: 5 p.m. ET 2/13/17.

Docket Numbers: ER17-826-000.

Applicants: Caprock Solar I LLC.

Description: § 205(d) Rate Filing: Change in Status—MBR Tariff to be effective 3/25/2017.

Filed Date: 1/23/17.

Accession Number: 20170123-5131.

Comments Due: 5 p.m. ET 2/13/17.

Take notice that the Commission received the following electric securities filings:

Docket Numbers: ES17-11-000.

Applicants: Rockland Electric Company.

Description: Application of Rockland Electric Company under New Docket for an order pursuant to Section 204 of the Federal Power Act authorizing the issue and sale of short-term debt.

Filed Date: 1/23/17.

Accession Number: 20170123-5141.

Comments Due: 5 p.m. ET 2/13/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 23, 2017.
Nathaniel J. Davis, Sr.,
Deputy Secretary.

[FR Doc. 2017-01914 Filed 1-27-17; 8:45 am]

BILLING CODE 6717-01-P